DEPARTMENT OF HEALTH AND HUMAN SERVICES

National Institutes of Health

National Heart, Lung, and Blood Institute; Notice of Proposed Reorganization

AGENCY: National Institutes of Health, HHS.

ACTION: Notice.

SUMMARY: The National Heart, Lung, and Blood Institute (NHLBI) of the National Institutes of Health (NIH) will host a public hearing to enable discussion of the Institute's proposal to reorganize the Division of Lung Disease (DLD). The proposed reorganization aims to ensure effective oversight, alignment of expertise, and translation of knowledge within and across research areas in the lung disease field. It establishes a new branch structure that will strategically position leadership over DLD programs, balance workload, and enhance depth/succession planning for ingrained operational sustainability. There will be no impact on the National Center on Sleep Disorders Research as a result of the restructuring. The online forums will allow members of the public to review the reorganization proposals and submit comments.

DATES: The first public hearing will take place June 6, 2023, at approximately 11:30 a.m. E.T. during the open session of the National Heart, Lung, and Blood Institute Advisory Committee meeting. The second public hearing will take place on June 7, 2023, from 12:00 p.m. to 1:00 p.m. E.T. using the NHLBI DLD Director's Twitter account. Any interested person may also file written comments by sending an email to nhlbi_dld@nhlbi.mail.gov prior to June 7, 2023. The statement should include the individual's name, and when applicable, professional affiliation.

ADDRESSES: The following email address may be used for comments on the reorganization: nhlbi_dld@nhlbi.mail.gov.

The link to the videocast for the first public hearing to occur during the open session of the NHLBI Advisory Council meeting will be posted online at: https://www.nhlbi.nih.gov/about/advisory-and-peer-review-committees/advisory-council.

The second public hearing will be held via Twitter using @NHLBI_LUNGDir.

FOR FURTHER INFORMATION CONTACT: Tony Jackson, Chief of Staff, Division of Lung Disease, National Heart, Lung, and Blood Institute, National Institutes of Health, Rockledge Center I, 6705 Rockledge Drive, 4th Floor, Bethesda 20817, 301-435-0233, nhlbi_dld@nhlbi.mail.gov.

SUPPLEMENTARY INFORMATION: The NIH Reform Act of 2006 (42 U.S.C. 281(d)(4)) requires public notice of proposed reorganization plans. This announcement and the public forum serve as that notice.

Dated: April 27, 2023.
James F. Gude,
Acting Executive Officer, National Heart, Lung and Blood Institute, National Institutes of Health.

[FR Doc. 2023-09452 Filed 5-3-23; 8:45 am]

BILLING CODE 4140-01-P